DEPARTMENT OF ENERGY

National Nuclear Security Administration; Notice of Intent To Establish the National Nuclear Security Administration Advisory Committee (NNSA AC)

In accordance with section 9(a)(2) of the Federal Advisory Committee Act (Pub. L. No. 92-463), and in accordance with Title 41 of the Code of Federal Regulations, section 101-6.1015(a), this notice of intent to establish the National Nuclear Security Administration Advisory Committee. This intent is to establish follows consultation with the Committee Management Secretary of the General Services Administration, pursuant to 41 CFR Subpart 101-6.10.

The purpose of the Committee is to provide the Administrator for Nuclear Security with advice, information, and recommendations on NNSA mission performance, needs, and priorities. The Committee will provide an organized forum for the community to provide advice and input to programs concerning nonproliferation, stockpile stewardship and naval reactor issues, and their related technology, research and development.

Committee members have been identified; they were selected to ensure an appropriately-balanced membership to bring into account a diversity of viewpoints, including representatives from universities, industry, and others who may significantly contribute to the deliberations of the Committee. Advance notice of all meetings of this Committee will be published in the Federal Register.

The establishment of the National Nuclear Security Administration Advisory Committee has been determined to be compelled by consideration of national security, essential to the conduct of Department of Energy business, and in the public interest.

Further information regarding this Committee may be obtained from Dr. Maureen McCarthy, Chief Scientist, National Nuclear Security Administration, Washington, DC 20585, phone (202) 586-5555.

Issued in Washington, DC, May 23, 2001.
James N. Solit,
Advisory Committee Management Officer.

[FR Doc. 01-13495 Filed 5-25-01; 8:45 am]

BILLING CODE 6450-01-P